DEPARTMENT OF LABOR

Employment and Training Administration

[TA-W-65,775]

Circor Energy, Oklahoma City, OK; Notice of Termination of Investigation

Pursuant to Section 221 of the Trade Act of 1974, as amended, an investigation was initiated on April 8, 2009, in response to a petition filed by three workers on behalf of all workers at Circor Energy, Oklahoma City, Oklahoma.

The petitioners requested that the petition be withdrawn. Consequently, the investigation has been terminated.

Signed at Washington, DC, this 7th day of May 2009.
Richard Church,
Certifying Officer, Division of Trade Adjustment Assistance.

[FR Doc. E9-13451 Filed 6-8-09; 8:45 am]

BILLING CODE 4510-FN-P